FEDERAL ELECTION COMMISSION

[Notice 2014-08]

Filing Dates for the Virginia Special Elections in the 7th Congressional District

AGENCY: Federal Election Commission.

ACTION: Notice of filing dates for special elections.

SUMMARY: Virginia has scheduled a special general election on November 4, 2014, to fill the U.S. House of Representatives seat being vacated by Representative Eric I. Cantor.

Committees required to file reports in connection with the Special General Election shall file a 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Virginia Special General Election shall file a 12-day Pre-General Report on October 23, 2014; and a Post-General Report on December 4, 2014. (See chart below for the closing date for each report.)

Unauthorized Committees (PACs and Party Committees)

Political committees filing on a quarterly basis in 2014 are subject to special election reporting if they make previously undisclosed contributions or expenditures in connection with the Virginia Special General Election by the close of books for the applicable report(s). (See chart below for the closing date for each report.)

Committees filing monthly that make contributions or expenditures in connection with the Virginia Special General Election will continue to file according to the monthly reporting schedule.

Additional disclosure information in connection with the Virginia Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,300 during the special election reporting periods (see chart below for closing date of each period). 11 CFR 104.22(a)(5)(v) and (b).

Calendar of Reporting Dates for Virginia Special Election Committees Involved
in the Special General (11/04/14) Must File
Report | Close of books ¹ | Reg./cert. & overnight mailing deadline | Filing deadline
Pre-General | 10/15/14 | 10/20/14 | 10/23/14
Post-General | 11/24/14 | 12/04/14 | 12/04/14
Year-End | 12/31/14 | 01/31/15 | ² 01/31/15
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than Registered, Certified or Overnight Mail, or electronically, must be received before the Commission's close of business on the last business day before the deadline.

Dated: August 14, 2014.
On behalf of the Commission.
Lee E. Goodman,
Chairman, Federal Election Commission.

[FR Doc. 2014-19701 Filed 8-19-14; 8:45 am]

BILLING CODE 6715-01-P